ENVIRONMENTAL PROTECTION AGENCY

40 CFR Part 300

[EPA-HQ-SFUND-1990-0010; FRL-9900-30-Region 9]

National Oil and Hazardous Substances Pollution Contingency Plan; National Priorities List: Deletion of the Sola Optical USA, Inc. Superfund Site

AGENCY: Environmental Protection Agency (EPA).

ACTION: Final rule.

SUMMARY: The Environmental Protection Agency (EPA) Region 9 announces the deletion of the Sola Optical USA, Inc. Superfund Site (Site) located in Petaluma, California, from the National Priorities List (NPL). The NPL, promulgated pursuant to section 105 of the Comprehensive Environmental Response, Compensation, and Liability Act (CERCLA) of 1980, as amended, is an appendix of the National Oil and Hazardous Substances Pollution Contingency Plan (NCP). The EPA and the State of California, through the California Regional Water Quality Control Board—San Francisco Bay Region, have determined that all appropriate response actions under CERCLA have been completed. However, this deletion does not preclude future actions under Superfund.

DATES: This rule is effective October 31, 2013.

ADDRESSES: EPA has established a docket for this action under Docket Identification No. EPA-HQ-SFUND-1990-0010. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through http://www.regulations.gov or in hard copy at the site information repositories.

Locations, contacts, phone numbers and viewing hours are:

Superfund Records Center, 95 Hawthorne St., Room 403, Mail Stop SFD-7C, San Francisco, CA 94105, (415) 536-2000, Mon-Fri: 8:00 a.m. to 5:00 p.m.

Petaluma Public Library, 100 Fairgrounds Drive, Petaluma CA 94952, (707) 763-9801, Mon, Thurs, Fri, Sat: 10:00 a.m. to 6:00 p.m., Tues, Wed: 10:00 a.m. to 9:00 p.m.

FOR FURTHER INFORMATION CONTACT: Dante Rodriguez, Remedial Project Manager, U.S. Environmental Protection Agency, Region 9, SFD-8-2, 75 Hawthorne Street, San Francisco, CA 94105, (415) 972-3166, email rodriguez.dante@epa.gov.

SUPPLEMENTARY INFORMATION: The site to be deleted from the NPL is: Sola Optical USA, Inc. Superfund Site, Petaluma, California. A Notice of Intent to Delete for this Site was published in the Federal Register on July 24, 2013.

The closing date for comments on the Notice of Intent to Delete was August 23, 2013. One set of public comments containing 15 comments was received, inquiring about the technical details of EPA's site investigation and remediation. EPA explained its technical rationale for all the questions raised, demonstrating that its investigation, remediation, and monitoring thereof justify the deletion of the Site. A responsiveness summary was prepared and placed in both the docket, EPA-HQ-SFUND-1990-0010, on www.regulations.gov, and in the local repositories listed above.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: October 22, 2013.
Jared Blumenfeld,
Regional Administrator, Region 9.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

2. Table 1 of Appendix B to part 300 is amended by removing “CA”, “Sola Optical USA, Inc., “Petaluma”.

[FR Doc. 2013-25987 Filed 10-30-13; 8:45 am]

BILLING CODE 6560-50-P